DEPARTMENT OF EDUCATION

[CFDA No. 206A]

Office of Educational Research and Improvement, Jacob K. Javits Gifted and Talented Students Education Program; Notice Inviting Applications for New Awards for Fiscal Years 2000 and 2001

Purpose of Program: To provide grants to help build a nationwide capability in elementary and secondary schools to identify and meet the special educational needs of gifted and talented students; to encourage the development of rich and challenging curricula for all students; and to supplement and make more effective the expenditures of State and local funds for the education of gifted and talented students.

For fiscal years (FY) 2000 and 2001 the competition for new awards focuses on projects designed to meet the priorities we describe in the PRIORITIES section of this application notice.

Eligible Applicants: State educational agencies; local educational agencies; institutions of higher education; and other public and private agencies and organizations, including Indian tribes and organizations—as defined by the Indian Self-Determination and Education Assistance Act—and Native Hawaiian organizations.

Applications Available: March 13, 2000.

Deadline for Receipt of Applications: April 24, 2000.

Note: We must receive all applications on or before this date. This requirement takes exception to the Education Department General Administrative Regulations (EDGAR), 34 CFR 75.102. Under the Administrative Procedure Act (5 U.S.C.) 553), the Department generally offers interested parties the opportunity to comment on proposed regulations. However, this exception to EDGAR makes procedural changes only and does not establish new substantive policy. Therefore, under 5 U.S.C. 553(b)(A), the Assistant Secretary for Educational Research and Improvement has determined that proposed rulemaking is not required.

Deadline for Intergovernmental Review: June 23, 2000.

Estimated Available Funds: $1,000,000.

Estimated Range of Awards: $100,000-$215,000.

Estimated Average Size of Awards: $166,000.

Maximum Award: We will reject any application that proposes a budget exceeding $215,000 for a single budget period of 12 months.

Estimated Number of Awards: 6.

Note: The Department is not bound by any estimates in this notice.

Project Period: 36 months. Please note that all applicants for multi-year awards are required to provide detailed budget information for the total project period requested. The Department will negotiate at the time of the initial award the funding levels for each year of the grant award.

Page Limit: The application narrative is where you, the applicant, address the selection criteria reviewers use to evaluate your application. You must limit the narrative to the equivalent of no more than 25 pages, using the following standards:

• A page is 8.5″ × 11″, on one side only, with 1″ margins at the top, bottom, and both sides.

• Double space all text in the application narrative, including titles, headings, footnotes, quotations, references, and captions, as well as all text in charts, tables, figures, and graphs.

• Use a font that is either 12-point or larger or no smaller than 10 pitch (characters per inch.).

The page limit does not apply to the cover sheet, the budget section, including the narrative budget justification, the assurances and certifications; the one page abstract, the resumes, the bibliography, or the letters of support. However, you must include all of the application narrative in one section.

If, to meet the page limit, you use more than one side of the page, you use a larger page, or you use a print size, spacing, or margins smaller than the standards in this notice, we will reject your application.

Applicable Regulations: (a) The Education Department General Administrative Regulations (EDGAR) in 34 CFR parts 74, 75, 77, 79, 80, 81, 82, 85, and 86; and (b) The regulations in 34 CFR parts 299 and 700.

Supplementary Information: It is the Department's intent to fund two cycles of awards from this competition. The first cycle of awards will be made from FY 2000 funds. If applications of high quality remain unfunded, additional awards will be made in the second cycle in 2001, pending availability of FY 2001 funds.

Priorities: This competition focuses on projects designed to meet the priorities in the notice of final priorities for this program, published in the Federal Register on April 24, 1996 (61 FR 18214) and repeated in this notice.

Absolute Priority—Model Programs

Under 34 CFR 75.105(c)(3) we consider only applications that meet this absolute priority.

Projects that establish and operate model programs to serve gifted and talented students in schools in which at least 50 percent of the students enrolled are from low-income families. Projects must include students who may not be served by traditional gifted and talented programs, including economically disadvantaged students, limited English proficient students, and students with disabilities. The projects must incorporate high-level content and performance standards in one or more of the core subject areas as well as utilize innovative teaching strategies.

The projects must provide comprehensive ongoing professional development opportunities for staff. The projects must incorporate training for parents in ways to support their children's educational progress. There must also be comprehensive evaluation of the projects' activities.

Competitive Preference Priority—Empowerment Zone or Enterprise Community

Under 34 CFR 75.105(c)(2)(i), we give preference and award five (5) points to an application that meets this competitive priority.

Projects that implement model programs in one or more schools in an Empowerment Zone or Enterprise Community or that primarily serve students who reside in the EZ or EC. Applicants must ensure that the proposed program relates to the strategic plan and will be an integral part of the Empowerment Zone or Enterprise Community program.

For Applications and Further Information Contact: Kelley Berry or Liz Barnes, U.S. Department of Education, 555 New Jersey Avenue, NW., room 502, Washington, DC 20208-5645. Facsimile machine: (202) 219-2053. Telephone: (202) 219-2096 or (202) 219-2210, respectively. If you use a telecommunications device for the deaf (TDD), you may call the Federal Information Relay Service (FIRS) at 1-800-877-8339.

Individuals with disabilities may obtain this document in an alternative format (e.g., Braille, large print, audiotape, or computer diskette) on request to either of the program contact persons listed under For Applications and Further Information Contact.

Individuals with disabilities may obtain a copy of the application package in an alternative format by contacting either person. However, the Department is not able to reproduce in an alternative format the standard forms included in the application package.

Electronic Access to This Document

You may view this document, as well as all other Department of Education documents published in the Federal Register, in text or Adobe Portable Document Format (PDF) on the Internet at either of the following sites:

http://ocfo.ed/gov/fedreg.htm

http://www.ed.gov/news.html

To use the PDF you must have the Adobe Acrobat Reader Program with Search, which is available free at either of the previous sites. If you have questions about using the PDF, call the U.S. Government Printing Office (GP0), toll free at 1-888-293-6498; or in the Washington, DC area at (202) 512-1530.

Note. The official version of this document is the document published in the Federal Register. Free Internet access to the official edition of the Federal Register and the Code of Federal Regulations is available on GPO Access at: http://www.access.gpo.gov/nara/index.html

Program Authority: 20 U.S.C. 8031-8036.

Dated: February 4, 2000.
C. Kent McGuire,
Assistant Secretary for Educational Research and Improvement.

[FR Doc. 00-2947 Filed 2-8-00; 8:45 am]

BILLING CODE 4000-01-P